DEPARTMENT OF THE INTERIOR

National Park Service

[NPS-WASO-NRNHL-18353; PPWOCRADI0, PCU00RP14.R50000]

National Register of Historic Places; Notification of Pending Nominations and Related Actions

Nominations for the following properties being considered for listing or related actions in the National Register were received by the National Park Service before May 16, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by June 29, 2015. Before including your address, phone number, email address, or other personal identifying information in your comment, you should be aware that your entire comment—including your personal identifying information—may be made publicly available at any time. While you can ask us in your comment to withhold your personal identifying information from public review, we cannot guarantee that we will be able to do so.

Dated: May 29, 2015.
J. Paul Loether,
Chief, National Register of Historic Places/National Historic Landmarks Program.

ARIZONA

Pinal County

Chi'chil Bildagoteel Historic District, Address Restricted, Kearney, 15000358

CALIFORNIA

Los Angeles County

Forsythe Memorial School for Girls, (Latinos in 20th Century California MPS) 506 N. Evergreen Ave., Los Angeles, 15000359

Solano County

Von Pfister General Store, Von Pfister Alley, Benicia, 15000360

GEORGIA

Jones County

Roberts—Bush—Roberts House, 157 Eatonton Hwy., Gray, 15000361

LOUISIANA

Rapides Parish

Long, Huey P., Memorial Hospital, 352 Hospital Blvd., Pineville, 15000362

MICHIGAN

Genesee County

Swayze Apartments, 313 W. Court St., Flint, 15000363

Lenawee County

Blissfield Downtown Historic District, Roughly bounded by Pearl, Jefferson & Giles Sts., Adrian & Blissfield RR., Blissfield, 15000364

MISSOURI

Cape Girardeau County

Wilson, J. Maple and Grace Senne, House, 344 N. Ellis St., Cape Girardeau, 15000365

NEW JERSEY

Essex County

Bloomfield Cemetery, 383 Belleville Ave., Bloomfield Township, 15000366

NEW YORK

Erie County

First Unitarian Church of Buffalo, 695 Elmwood Ave., Buffalo, 15000367

Monroe County

Inglewood and Thurston Historic District, 15-218 Inglewood Dr., 169-291 Thurston Rd. & 5 Marlborough, Rochester, 15000368

Schoharie County

Hess, Christian, House and Shoemaker's Shop, 111 Stony Brook Rd., Schoharie, 15000369

Ulster County

Alligerville Historic District, Berme, Church Hill, Creek, Rose Hill & Towpath Rds., Cty. Rd. 6, Church & Purcell Lns., Accord, 15000370

OHIO

Cuyahoga County

Scranton South Side Historic District, 2314-2658, 3339 Scranton Rd., 1632-2101 Holmden, 1644-2115 Brainard, 1724-2105 Corning, 1701-2034 Clover Aves., Cleveland, 15000371

Montgomery County

Miami Valley Golf Course and Clubhouse, 3311 Salem Ave., Dayton, 15000372

OREGON

Coos County

First National Bank of Bandon, 112 2nd St. SE., Bandon, 15000373

Lane County

Leaburg Hydroelectric Project Historic District, 14348 McKenzie River Hwy., Leaburg, 15000375

Tillamook County

Tillamook Bay Life-Saving Station, 15280 US 101 N., Barview, 15000374

VERMONT

Addison County

First Congregational Church of Cornwall Parsonage, 18 VT 74, Cornwall, 15000376

WISCONSIN

Rock County

Gray, William H. and Edith, Farmstead, 313 E. High St., Milton, 15000377

[FR Doc. 2015-14402 Filed 6-11-15; 8:45 am]

BILLING CODE 4312-51-P